DEPARTMENT OF JUSTICE

[OMB Number 1121—NEW]

Agency Information Collection Activities; Proposed Collection; Comments Requested: Office for Victims of Crime Training and Technical Assistance Center (OVC TTAC) Online Trainings Package

ACTION: 60-Day Notice.

The Department of Justice, Office of Justice Programs, Office for Victims of Crime, will be submitting the following information collection request to the Office of Management and Budget (OMB) for review and approval in accordance with the Paperwork Reduction Act of 1995. The proposed information collection is published to obtain comments from the public and affected agencies. Comments are encouraged and will be accepted for 60 days until August 19, 2013. This process is conducted in accordance with 5 CFR 1320.10.

If you have comments, especially on the estimated public burden or associated response time, suggestions, or need a copy of the proposed information collection instrument with instructions or additional information, please contact Shelby Jones Crawford, Victim Justice Program Specialist, Office for Victims of Crime, Office of Justice Programs, Department of Justice, 810 7th Street NW., Washington, DC 20530.

Written comments and suggestions from the public and affected agencies concerning the proposed collection of information are encouraged. Your comments should address one or more of the following four points:

(1) Evaluate whether the proposed collection of information is necessary for the proper performance of the functions of the agency/component, including whether the information will have practical utility;

(2) Evaluate the accuracy of the agencies/components estimate of the burden of the proposed collection of information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Overview of This Information Collection

(1) Type of Information Collection: New Collection.

(2) The Title of the Form/Collection: OVC TTAC Online Trainings Package.

(3) The Agency form number, if any, and the applicable component of the Department of Justice sponsoring the collection: Form Number(s): NA. Office for Victims of Crime, Office of Justice Programs, Department of Justice.

(4) Affected public who will be asked or required to respond, as well as a brief abstract. Primary: State, Local or Tribal agencies/organizations. Other: Federal Government; Individuals or households; Not-for-profit institutions; Businesses or other for-profit. Abstract: The Office for Victims of Crime Training and Technical Assistance Center (OVC TTAC) Online Trainings Package is designed to collect the data necessary to continuously assess the satisfaction and outcomes of assistance provided through OVC TTAC online trainings for both monitoring and accountability purposes to continuously meet the needs of the victim services field. OVC TTAC will deliver these forms to recipients of online training and technical assistance and, in some cases, to online instructors or participants' supervisors. The purpose of this data collection will be to capture important feedback on the respondent's satisfaction and outcomes of the resources provided. The data will then be used to advise OVC on ways to improve the support that it provides to the victim services field at-large.

(5) An estimate of the total number of respondents and the amount of time estimated for an average respondent to respond/reply: There are approximately 17,315 respondents who will require an average of 8 minutes (ranging from 5 to 10 minutes across all forms) to respond to a single form each year.

(6) An estimate of the total public burden (in hours) associated with the collection: The total annual public burden hours for this information collection are estimated to be 2,456 hours.

If additional information is required contact: Jerri Murray, Department Clearance Officer, U.S. Department of Justice, Justice Management Division, Policy and Planning Staff, 145 N Street NE., Room 1407B, Washington, DC 20530.

Dated: June 12, 2013.
Jerri Murray,
Department Clearance Officer for PRA, U.S. Department of Justice.

[FR Doc. 2013-14354 Filed 6-17-13; 8:45 am]

BILLING CODE 4410-18-P